DEPARTMENT OF TRANSPORTATION

Office of the Secretary

[Docket No. DOT-OST-2020-0049]

Agency Information Collection Activities: Requests for Comments; Clearance of a Renewed Approval of Information Collection(s): Procedures for Transportation Workplace Drug and Alcohol Testing Programs (ICR 2105-0529)

AGENCY: Office of the Secretary (OST), DOT.

ACTION: Notice and request for comments.

SUMMARY: The Department of Transportation (DOT) invites public comments about our intention to request Office of Management and Budget (OMB) approval to renew information collection 2105-0529, Procedures for Transportation Drug and Alcohol Testing Program (ICR 2105-0529). The information to be collected will be used to document tests conducted and actions taken to ensure safety in the workplace and/or are necessary under the Omnibus Transportation Employee Testing Act of 1991, which requires DOT to implement a drug and alcohol testing program in various transportation-related industries. DOT is required to publish this notice in the Federal Register in accordance with the Paperwork Reduction Act of 1995.

DATES: Comments to this notice must be received by August 10, 2020.

ADDRESSES: You may submit comments by any of the following methods:

• Website: http://www.regulations.gov Follow the instructions for submitting comments on the DOT electronic docket site.

• Federal eRulemaking Portal: http://www.regulations.gov Follow the instructions for submitting comments.

• Fax: 1-202-493-2251.

• Mail or Hand Delivery: Docket Management Facility, U.S. Department of Transportation, 1200 New Jersey Avenue SE, West Building, Room W12-140, Washington, DC 20590, between 9 a.m. and 5 p.m., Monday through Friday, except on Federal holidays.

Instructions: You must include the agency name and docket number [DOT-OST-2020-0049] of this notice at the beginning of your comment. Note that all comments received will be posted without change to http://www.regulations.gov including any personal information provided. Please see the Privacy Act section of this document.

Docket: You may view the public docket through the internet at http://www.regulations.gov or in person at the Docket Management System office at the above address.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Bohdan Baczara, Office of Drug and Alcohol Policy and Compliance, Office of the Secretary, U.S. Department of Transportation, 1200 New Jersey Avenue SE, Washington, DC 20590; 202-366-3784 (voice), 202-366-3897 (fax), or ODAPCWebmail@dot.gov (email).

SUPPLEMENTARY INFORMATION: OMB Control Number: 2105-0529.

Title: Procedures for Transportation Workplace Drug and Alcohol Testing Programs.

Form Numbers: DOT F 1385; DOT F 1380.

Type of Review: Clearance of a renewal of an information collection.

Background: Under the Omnibus Transportation Employee Testing Act of 1991, DOT is required to implement a drug and alcohol testing program in various transportation related industries. This specific requirement is elaborated in 49 CFR part 40, Procedures for Transportation Workplace Drug and Alcohol Testing Programs. This request for a renewal of the information collection for the program includes 41 burden items related to the overall program and 2 official DOT forms: The U.S. Department of Transportation Alcohol Testing Form (ATF) [DOT F 1380] and the DOT Drug and Alcohol Testing Management Information System (MIS) Data Collection Form [DOT F 1385].

The ATF includes the employee's name, the type of test taken, the date of the test, and the name of the employer. Data on each test conducted, including test results, is necessary to document that the tests were conducted and is used to take action, when required, to ensure safety in the workplace. The MIS form includes employer specific drug and alcohol testing information such as the reason for the test and the cumulative number of test results for the negative, positive, and refusal tests. No employee specific data is collected. The MIS data is used by each of the affected DOT Agencies (i.e., Federal Aviation Administration, Federal Transit Administration, Federal Railroad Administration, Federal Motor Carrier Safety Administration, and the Pipeline and Hazardous Materials Safety Administration) and the United States Coast Guard when calculating their industry's annual random drug and/or alcohol testing rate.

Respondents: The information will be collected from transportation employers, Department representatives, and a variety of service agents. Estimated total number of respondents is 3,593,202.

Frequency: The information will be collected annually.

Estimated Total Number Burden Hours: 1,287,811.

PRA item | Number of respondents | Number of responses | Burden per response | Total burden hours | Total salary costs ($) ¹
Exemptions from Regulation Provisions Requests [40.7(a)] | 1 | 1 | 180 min (3 hours) | 3 | $104
Employer Stand-down Waiver Requests [40.21(b)] | 0 | 0 | 480 min (8 hours) | 0 | 0
Employee Testing Records from Previous Employers [40.25(a)] | 584,628 | 3,538,179 | 8 min | 471,757 | 16,379,410
Employee Release of Information [40.25(f)] | 3,538,179 | 3,538,179 | 4 min | 235,878 | 8,189,704
MIS Form Submission [40.26] | 17,840 | 17,840 | 90 min (1.5 hours) | 26,760 | 929,107
Collector (Qualification and Refresher) Training Documentation (40.33(b) & (e)] | 5,000 | 5,000 | 4 min | 333 | 11,561
Collector Error Correction Training Documentation [40.33(f)] | 12,000 | 19,625 | 4 min | 1,308 | 45,425
Laboratory Reports to DOT Regarding Unlisted Adulterant [40.91(e)] | 0 | 0 | 30 min | 0 | 0
Semi-Annual Laboratory Reports to Employers [40.111(a)] | 23 | 385,854 | 4 min | 25,723 | 893,123
Semi-Annual Laboratory Reports to DOT [40.111(d)] | 23 | 46 | 4 min | 3 | 106
Medical Review Officer (MRO) (Qualifications and Continuing Education) Training Documentation [40.121(c) & (d)] | 1,000 | 1,000 | 4 min | 66 | 2,291
MRO Review of Negative Results Documentation [40.127(b)(2)(ii)] | 5,000 | 381,055 | 4 min | 25,403 | 873,000
MRO Failure to Contact Donor Documentation [40.131(c)(1)] | 5,000 | 63,827 | 4 min | 4,255 | 147,738
MRO Effort to Contact DER Documentation [40.131(c)(2)(iii)] | 5,000 | 63,827 | 4 min | 4,255 | 147,738
DER Successful Contact Employee Documentation [40.131(d)] | 51,061 | 51,061 | 4 min | 3,404 | 118,190
DER Failure to Contact Employee Documentation [40.131(d)(2)(i)] | 12,765 | 12,765 | 4 min | 851 | 29,547
MRO Verification of Positive Result Without Interview Documentation [40.133] | 5,000 | 12,765 | 4 min | 851 | 29,547
Adulterant/Substitution Evaluation Physician Statements [40.145(g)(2)(ii)(d)] | 0 | 0 | 30 min | 0 | 0
MRO Cancellation of Adulterant/Substitution for Legitimate Reason Reports [40.145(g)(5)] | 0 | 0 | 30 min | 0 | 0
Employee Admission of Adulterating/Substituting Specimen MRO Determination [40.159(c)] | 40 | 40 | 4 min | 3 | 104
Split Specimen Requests by MRO [40.171(c)] | 5,000 | 7,206 | 4 min | 480 | 16,680
Split Failure to Reconfirm for Drugs Reports by MRO [40.187(b)] | 35 | 34 | 4 min | 2 | 69
Split Failure to Reconfirm for Adulterant/Substitution Reports by MRO [40.187(c)] | 5 | 5 | 5 min | 1 | 34
Shy Bladder Physician Statements [40.193(f)] | 773 | 773 | 5 min | 64 | 2,238
MRO Statements Regarding Physical Evidence of Drug Use [40.195(b) & (c)] | 0 | 0 | 0 | 0 | 0
Drug Test Correction Statements [40.205(b)(1) & (2)] | 25,000 | 154,732 | 8 min | 20,630 | 716,308
Breath Alcohol Technician (BAT)/Screening Test Technician (STT) (Qualification and Refresher) Training Documentation [40.213(b)(c) & (e)] | 2,000 | 2,000 | 4 min | 133 | 4,617
BAT/STT Error Correction Training Documentation [40.213(f)] | 168 | 168 | 4 min | 11 | 390
Complete DOT Alcohol Testing Forms [40.225(a)] | 10,000 | 3,378,454 | 8 min | 450,460 | 15,639,989
Evidential Breath Testing Device Quality Assurance/Calibration Records [40.233(c)(4)] | 10,000 | 10,000 | 4 min | 666 | 23,123
Shy Lung Physician Statements [40.265(c)(2)] | 168 | 168 | 4 min | 11 | 390
Alcohol Test Correction Statements [40.271(b)(1) & (2)] | 337 | 337 | 4 min | 22 | 781
Substance Abuse Professional (SAP) (Qualification and Continuing Education) Training Documentation [40.281(c) & (d)] | 3,334 | 3,334 | 4 min | 222 | 7,707
Employer SAP Lists to Employees [40.287] | 10,000 | 115,713 | 4 min | 7,714 | 267,837
SAP Reports to Employers [40.311(c)(d) & (e)] | 10,000 | 94,456 | 4 min | 6,297 | 218,634
Correction Notices to Service Agents [40.373(a)] | 25 | 25 | 60 min | 25 | 868
Notice of Proposed Exclusion (NOPE) to Service Agents [40.375(a)] | 5 | 5 | 600 min (10 hours) | 50 | 1,736
Service Agent Requests to Contest Public Interest Exclusions (PIE) [40.379(b)] | 2 | 2 | 60 min | 2 | 69
Service Agent Information to Argue PIE [40.379(b)(2)] | 2 | 2 | 120 min | 8 | 277
Service Agent Information to Contest PIE [40.381(a) & (b)] | 2 | 2 | 240 min (4 hours) | 8 | 277
Notices of PIE to Service Agents [40.399] | 1 | 1 | 60 min | 1 | 34
Notices of PIE to Employer and Public [40.401(b) & (d)] | 1 | 1 | 60 min | 1 | 34
Service Agent PIE Notices to Employers [40.403(a)] | 1 | 300 | 30 min | 150 | 5,208
Total New | 3,593,202 | 11,841,478 | 2,196 min. (36.6 hours) | 1,287,811 | 44,703,995
¹ All salary costs are based upon the Department of Labor's bureau of Labor Statistics average employee compensation hourly cost I 2019.

Public Comments Invited: You are asked to comment on any aspect of this information collection, including (a) Whether the proposed collection of information is necessary for DOT's performance; (b) The accuracy of the estimated burden that the collection would impose on respondents; (c) Ways for the DOT to enhance the quality, utility and clarity of the information to be collected; and (d) Ways that the burden could be minimized without reducing the quality of the collected information. The agency will summarize and/or include your comments in the request for OMB's clearance of this information collection.

Authority: The Paperwork Reduction Act of 1995; 44 U.S.C. Chapter 35, as amended; and 49 CFR 1:48.

Issued in Washington, DC, on June 5, 2020.
Bohdan Baczara,
Deputy Director, DOT, Office of Drug and Alcohol Policy and Compliance.

[FR Doc. 2020-12612 Filed 6-10-20; 8:45 am]

BILLING CODE 4910-9X-P